DEPARTMENT OF COMMERCE

National Telecommunications and Information Administration

[Docket No. 230926-0233]

RIN 0660-XC059

Initiative To Protect Youth Mental Health, Safety & Privacy Online

AGENCY: National Telecommunications and Information Administration, Department of Commerce.

ACTION: Notice, request for comment.

SUMMARY: Preventing and mitigating any adverse health effects from use of online platforms on minors, while preserving benefits such platforms have on minors' health and well-being, are critical priorities of the Biden-Harris Administration. On behalf of the Department of Commerce and in conjunction with the other members of the United States government's Task Force on Kids Online Health & Safety, the National Telecommunications and Information Administration (NTIA) seeks broad input and feedback from stakeholders on current and emerging risks of health (including mental health), safety, and privacy harms to minors arising from use of online platforms. This request also seeks information about potential health, safety and privacy benefits stemming from minors' use of online platforms. Finally, we seek input on current and future industry efforts to mitigate harms and promote the health, safety and well-being of minors who access these online platforms. The data gathered through this process will be used to inform the Biden-Harris Administration's work to advance the health, safety, and privacy of minors.

DATES: Written comments must be received on or before November 16, 2023.

ADDRESSES: All electronic public comments on this action, identified by Regulations.gov docket number NTIA-2023-0008, may be submitted through the Federal e-Rulemaking Portal at http://www.regulations.gov. The docket established for this request for comment can be found at www.Regulations.gov, NTIA-2023-0008. To make a submission, click the “Comment Now!” icon, complete the required fields, and enter or attach your comments. Additional instructions can be found in the “Instructions” section below after “Supplementary Information.”

FOR FURTHER INFORMATION CONTACT: Please direct questions regarding this Request for Comment to Kids Online team at KOHSrfc@ntia.gov with “Kids Online Request for Comment” in the subject line. If submitting comments by U.S. mail, please address questions to Ruth Yodaiken, National Telecommunications and Information Administration, U.S. Department of Commerce, 1401 Constitution Avenue NW, Washington, DC 20230. Questions submitted via telephone should be directed to (202)-482-4067. Please direct media inquiries to NTIA's Office of Public Affairs, telephone: (202) 482-7002; email: press@ntia.gov.

SUPPLEMENTARY INFORMATION:

I. Background and Authority

On May 23, 2023, the Biden-Harris Administration announced several key actions to protect the health, safety, and privacy of young people online, including the formation of an interagency Kids Online Health and Safety Task Force (Task Force).¹ The Task Force was developed primarily in response to concerns about the role that online platforms have in the “unprecedented youth mental health crisis” in the United States today.²

¹ White House, Fact Sheet: Biden-Harris Administration Announces Actions to Protect Youth Mental Health, Safety & Privacy Online, The White House, (White House Fact Sheet) (May 23, 2023). https://www.whitehouse.gov/briefing-room/statements-releases/2023/05/23/fact-sheet-biden-harris-administration-announces-actions-to-protect-youth-mental-health-safety-privacy-online.

² Id.

In order to address health and safety concerns related to minors and the online environment, the Task Force will “review the status of existing industry efforts and technologies to promote the health and safety of children and teenagers vis-à-vis their online activities, particularly with respect to their engagement in social media and other online platforms.” ³ The Task Force is further charged with developing voluntary guidance, policy recommendations, and a toolkit on safety-, health- and privacy-by-design for industry in developing digital products and services.

³ Id. For the purposes of this Request for Comment, the term “social media” and “online platforms” encompass a wide array of modern technology from video sharing networks, such as TikTok, Twitch and YouTube, to social networks such as Facebook, Instagram. It includes the many gaming networks in addition to Twitch, such as Discord, Roblox and Xbox, which allow individuals to interact with each other through, and adjacent to, games.

The Task Force is led by the Department of Health and Human Services in close partnership with the Department of Commerce, through the National Telecommunications and Information Administration (NTIA). It is comprised of senior representatives from the Department of Education, the Department of Justice, the Department of Homeland Security, the Federal Trade Commission, the National Institute of Standards and Technology, the Office of the Surgeon General, the Centers for Disease Control and Prevention, the National Institutes of Health, the Office of the Assistant Secretary for Health, the Office of the Assistant Secretary for Children and Families, and the White House Domestic Policy Council, Office of Science and Technology Policy, the National Economic Council, and the Gender Policy Council.

In announcing the Task Force, the Administration referred to existing research and reports from news and medical sources, including an American Psychiatric Association poll finding that “[m]ore than half of parents express concern over their children's mental well-being.” ⁴ The Administration cited “undeniable evidence that social media and other online platforms have contributed to our youth mental health crisis.” ⁵

⁴ American Psychiatric Association, New APA Poll Shows Sustained Anxiety Among Americans; More than Half of Parents are Concerned About the Mental Well-Being of Their Children (May 2, 2021), https://www.psychiatry.org/newsroom/news-releases/new-apa-poll-shows-sustained-anxiety-among-americans-more-than-half-of-parents-are-concerned-about-the-mental-well-being-of-their-children.

⁵ White House Fact Sheet.

Concurrently, the Surgeon General of the United States issued an Advisory that labeled the potential harm to American youth stemming from use of online platforms an “urgent public health issue,” citing “increasing concerns among researchers, parents and caregivers, young people, healthcare experts, and others about the impact of social media on youth mental health,” ⁶ and called for action by, among others, technology and online service providers.⁷ Moreover, there is growing consensus about the need to fund research to more fully understand the complexity of the overall impact of social media, and technology use more generally on youth mental health and socio-emotional and cognitive development, including differential impacts by developmental stage and on certain populations of youth. Social media and other online platforms are nearly ubiquitous, and minors spend substantial amounts of time using them. Yet, technology and online service providers' practices, such as design choices and policies regarding data access, have remained opaque to varying degrees, leaving the scientific community unable to fully understand the scope and scale of the impact that social media and other online platforms have had, and continue to have, on youth mental health and well-being.⁸ As the Surgeon General stated, action is needed now: “[C]hildren and adolescents don't have the luxury of waiting years until we know the full extent of social media's impact. Their childhoods and development are happening now.” ⁹

⁶ Dept. Of Health and Human Services, Social Media and Youth Mental Health—Current Priorities of the U.S. Surgeon General (Advisory) (May 23, 2023), at 3-4, https://www.hhs.gov/surgeongeneral/priorities/youth-mental-health/social-media/index.html.

⁷ Advisory at 13 -20.

⁸ See Dept. of Health and Human Services, Social Media and Youth Mental health: The U.S. Surgeon General's Advisory (Executive Summary) (2023), https://www.hhs.gov/sites/default/files/sg-youth-mental-health-social-media-summary.pdf.

⁹ Advisory at 13.

1. Health, Safety and Privacy: Specific Areas of Concern

Minors' use of social media and other online platforms have produced an evolving and broad set of concerns, touching on, among other things, health, safety, and privacy. ¹⁰ These concerns include impacts upon mental health, brain development, attention span, sleep, addiction, anxiety, and depression.¹¹ These concerns stem from both the design of the social media environment and the specific types of content to which minors are exposed, often repeatedly over long periods of time. Exposure to self-harming and suicide-related content, for example, have been linked in some cases to deaths of minors.¹² Some online material appears to disproportionately affect subgroups of youth, including racial, ethnic, sexual and gender groups. For example, evidence shows that such sustained and high volume exposure to online materials negatively affect girls' self-esteem and body images.¹³ Safety is also an area of concern related to use of online platforms, particularly the risk of predators targeting minors online for physical, psychological, and other forms of abuse, including sexual exploitation, extortion (or sextortion) ¹⁴ and cyberbullying.¹⁵ Adult and children frequently use the same online platforms, particularly social media platforms, and that enables adults to readily engage children who are ill-equipped to understand the adults' intentions. Parents and guardians, who are called upon to regulate their children's use of online platforms, are often provided little to no information about these potential harms. Minors similarly lack the necessary information.

¹⁰ The terms “minors” and “youths” are used in this document to describe people under 18 years of age.

¹¹ See generally, Advisory.

¹² See, e.g., Advisory at 8-9; Southern District of Indiana | FBI and Partners Issue National Public Safety Alert on Sextortion Schemes, Department of Justice, (Jan. 19, 2023), https://www.justice.gov/usao-sdin/pr/fbi-and-partners-issue-national-public-safety-alert-sextortion-schemes

¹³ See, e.g., Advisory at 8 (noting the issue of social comparison).

¹⁴ See, e.g., Federal Bureau of Investigation, International Law Enforcement Agencies Issue Joint Warning About Global Financial Sextortion Crisis, Press Release, (Feb. 7, 2023), https://www.fbi.gov/news/press-releases/international-law-enforcement-agencies-issue-joint-warning-about-global-financial-sextortion-crisis.

¹⁵ See, generally, StopBullying.gov, What Is Cyberbullying, Centers for Disease Control and Prevention, https://www.stopbullying.gov/cyberbullying/what-is-it; Centers for Disease Control and Prevention, Adolescent and School Health: Data & Statistics, https://www.cdc.gov/healthyyouth/data/index.htm.

Social media and other online platforms also pose risks to minors of infringements on privacy, with concerns focused on the particularly sensitive nature of images and other personally identifiable information such as educational records, including misuse, minors' vulnerability to harms from those with access to such information, and, more generally, minors' exposure to comprehensive surveillance.¹⁶ Concerns regarding minors' privacy are exacerbated by the rise of data analytics and tracking tools that collect and make use of large quantities of personal data, often along with offering free or reduced-cost access to online services.¹⁷ Youth are among those most affected by the state of the industry and can be targeted specifically.¹⁸ In addition, as noted above, data -- especially if not secured properly—can be misused by predators for criminal or other purposes. Ongoing developments in communications and information-processing technologies, including rapid advances in artificial intelligence capabilities and use, might produce new risks to minors' privacy, health and safety. For example, earlier this year, there were many news reports about an AI-powered chatbot that gave out what seemed to be harmful advice in response to inquiries about getting help for eating disorders.¹⁹

¹⁶ See, e.g., Advisory at 9; National Telecommunications and Information Administration, Comments of NTIA Regarding Commercial Surveillance ANPR R1104 Before the Federal Trade Commission, FTC Docket 2022-0053, at 14-16, 20-21, https://ntia.gov/sites/default/files/publications/ftc_commercial_surveillance_anpr_ntia_comment_final.pdf.

¹⁷ See, e.g., Federal Trade Commission, Commercial Surveillance and Data Security Rulemaking, https://www.ftc.gov/legal-library/browse/federal-register-notices/commercial-surveillance-data-security-rulemaking (providing links to the Advance Notice of Proposed Rulemaking in that area and related material). For information about how design has been used to manipulate content generally, including to keep people engaged online and to influence online decisions, see, e.g., Arunesh Mathur, et al., Dark Patterns at Scale: Findings from a Crawl of 11K Shopping websites, Proceedings of the ACM on Human-Computer Interaction, Vol 3, Issue CSCW, Article No.: 81 (Sept. 20, 2019), https://dl.acm.org/doi/10.1145/3359183.

¹⁸ See, e.g., Statement of Frances Haugen, United States Senate Committee on Commerce, Science and Transportation, (Oct. 4, 2021), https://www.commerce.senate.gov/services/files/FC8A558E-824E-4914-BEDB-3A7B1190BD49; See, also, Federal Trade Commission Proposes Blanket Prohibition Preventing Facebook from Monetizing Youth Data, Press Release (May 3, 2023), https://www.ftc.gov/news-events/news/press-releases/2023/05/ftc-proposes-blanket-prohibition-preventing-facebook-monetizing-youth-data (regarding FTC changes to a privacy order with Facebook after alleged violations).

¹⁹ See, e.g., Lauren McCarthy, A Wellness Chatbot is Offline After its ‘Harmful” Focus on Weight Loss, The New York Times (June. 8, 2023), https://www.nytimes.com/2023/06/08/us/ai-chatbot-tessa-eating-disorders-association.html?smid=url-share; Center for Countering Digital Hate, AI and Eating Disorders: How Generative AI Enables and Promotes Harmful Eating Disorder Content (Aug. 7, 2023), https://counterhate.com/research/ai-tools-and-eating-disorders.

2. Benefits

While social media and other online platforms pose risks to minors, these offerings also can facilitate and provide immense benefits for minors. The Biden Administration, through NTIA and other agencies, is engaged in an historic initiative to bring robust and affordable internet access to all Americans. This project will allow greater youth participation in the modern digital economy, open access to increased digital learning opportunities and after-school activities, broaden access to health care (including telehealth), enhance civic engagement, help students participate in a wide range of activities, and more.²⁰ Health or other benefits that social media and related platforms offer to many youth include, for example, creating space for self-expression, developing and sustaining social connections, providing skill-building opportunities and buffering against negative conduct and speech, and providing online emergency services.²¹ The Surgeon General's Advisory noted that access to online platforms is “especially important for youth who are often marginalized, including racial, ethnic, and sexual and gender minorities.” ²²

²⁰ More on this topic can be found on the NTIA web page on High-Speed internet, https://www.ntia.gov/category/high-speed-internet.

²¹ See, e.g., Advisory at 6.

²² See, e.g., id.; see also Common Sense Media, Teens and Mental Health: How Girls Really Feel About Social Media (Mar 30, 2023), https://www.commonsensemedia.org/sites/default/files/research/report/how-girls-really-feel-about-social-media-researchreport_web_final_2.pdf.

3. Efforts To Assess and Address Risks, and Mitigate Harms

The Task Force is charged with exploring ways to assess and address risks and harms to minors online. Among other things, the Task Force will evaluate how best to harness technology for these purposes and will consider best practices for social media and online platforms and their use.²³ For many years, individuals and organizations around the globe have been working to identify specific risks and harms posed by evolving technologies and to explore methods and mechanisms to mitigate such harms.²⁴ Congress has been exploring these issues through hearings and legislative proposals.²⁵ Similarly, legislators in states, such as California and Texas, have been adopting measures to try to spur changes among social media and other companies.²⁶ Provisions being explored include the use of default settings, adoption of particular privacy features, and further use of age gates (limiting access by age).

²³ White House Fact Sheet (“Children are subject to the platforms' excessive data collection, which they use to deliver sensational and harmful content and troves of paid advertising. And online platforms often use manipulative design techniques embedded in their products to promote addictive and compulsive use by young people to generate more revenue. Social media use in schools is affecting students' mental health and disrupting learning. Advances in artificial intelligence could make these harms far worse, especially if not developed and deployed responsibly. Far too often, online platforms do not protect minors who use their products and services, even when alerted to the abuses experienced online.”).

²⁴ See, e.g., Pew Research Center, Teens, Social Media and Technology 2022, https://www.pewresearch.org/internet/2022/08/10/teens-social-media-and-technology-2022.

²⁵ See, e.g., Kids Online Safety Act, S. 1409, 118th Cong. (2023), as amended and posted by the Senate Committee on Commerce, Science, and Transportation on July 27, 2023; see, also, Time Change: Protecting Our Children Online, Hearing Before the Senate Committee on the Judiciary (Feb. 14, 2023), https://www.judiciary.senate.gov/committee-activity/hearings/protecting-our-children-online; Kids Online During COVID: Child Safety in an Increasingly Digital Age, Hearing Before the House of Representatives Subcommittee on Consumer Protection and Commerce (Committee on Energy and Commerce), (Mar. 11, 2021), https://docs.house.gov/Committee/Calendar/ByEvent.aspx?EventID=111298.

²⁶ See, e.g., California Age-Appropriate Design Code Act, AB 2273 (2022), https://leginfo.legislature.ca.gov/faces/billNavClient.xhtml?bill_id=202120220AB2273; Securing Children Online through Parental Empowerment (SCOPE) Act, H.B. 18 (2023).

Many agencies represented on the Task Force have taken actions designed to advance minors' interests to protect their health, safety and privacy online. The Department of Commerce is working to “promote efforts to prevent online harassment and abuse” of youth by increasing awareness and support for youth victims, among other efforts.²⁷ While not targeted at youth, the National Institute of Standards and Technology has worked with industry to improve ID verification and authentication that might be relevant to age verification.²⁸ The Federal Trade Commission, which enforces the Childrens Online Privacy Protection Act (COPPA), is assessing data surveillance practices both generally and with specific regard to minors.²⁹ The Department of Education, which enforces the Family Educational Rights and Privacy Act (FERPA), is pursuing initiatives focused on privacy of students using digital technology for education.³⁰ The Department of Justice and the Department of Homeland Security are working to enhance their efforts to, among other things, (i) identify and prosecute those who sexually exploit children online, (ii) identify, rescue, and provide support to children who have been sexually victimized, (iii) provide some transparency and accountability concerning the online harms children face every day, and (iv) undertake education and prevention efforts to help children avoid becoming victims of sexual exploitation. ³¹ The National Institutes of Health, in accordance with the CAMRA Act, supports biomedical and behavioral science research to study the health impacts of digital media exposure on youth, which may include the positive and negative effects of exposure to and use of media, (such as social media, applications, websites), to better understand the relationships between media and technology use and individual differences and characteristics of children and to assess the impact of media on youth over time.³²

²⁷ White House Fact Sheet.

²⁸ See, e.g., National Institute of Standards and Technology, Digital Identity Guidelines, Initial Public Draft SP 800-63-4 (Dec. 16, 2022), https://csrc.nist.gov/pubs/sp/800/63/4/ipd.

²⁹ See, e.g., Federal Trade Commission, Trade Regulation Rule on Commercial Surveillance and Data Security; Advance Notice of Proposed Rulemaking, Request for Public Comment, Public Forum, 87 FR 51273 (Aug. 22, 2022), https://www.federalregister.gov/documents/2022/08/22/2022-17752/trade-regulation-rule-on-commercial-surveillance-and-data-security; Federal Trade Commission, FTC Seeks Comments on Children's Online Privacy Protection Act Rule, Press Release (July 25, 2019), https://www.ftc.gov/news-events/news/press-releases/2019/07/ftc-seeks-comments-childrens-online-privacy-protection-act-rule; Federal Trade Commission, FTC Extends Deadline for Comments on COPPA Rule until December 11, Press Release (Dec. 9, 2019), https://www.ftc.gov/news-events/news/press-releases/2019/12/ftc-extends-deadline-comments-coppa-rule-until-december-11.

³⁰ White House Fact Sheet (noting also that “[s]ocial media use in schools is affecting students' mental health and disrupting learning”); see also The Washington Post, Students Can't Get Off Their Phones. Schools Have Had Enough: Administrators See Them As an Intensifying Distraction — Or, Worse, a Tax on Students' Mental Health, (May 9, 2023), https://www.washingtonpost.com/education/2023/05/09/school-cellphone-ban-yondr).

³¹ White House Fact Sheet (highlighting DOJ and DHS effort with National Center for Missing and Exploited Children (NCMEC)).

³² H.R.2161—117th Congress (2021-2022): CAMRA Act, https://www.congress.gov/bill/117th-congress/house-bill/2161/text?r=16&s=1; Senators Markey, Bipartisan Colleagues Celebrate Passage of CAMRA Act to Fund Research on Impact of Tech on Childhood Development (senate.gov), https://www.markey.senate.gov/news/press-releases/senators-markey-bipartisan-colleagues-celebrate-passage-of-camra-act-to-fund-research-on-impact-of-tech-on-childhood-development

All around the world, nation-states, civil society organizations, and researchers are working to determine how best to keep children and teens safe while maximizing the benefits of social media and other online platforms.³³ For example, the United Kingdom's age-appropriate design codes incorporate such elements as prohibiting the use of techniques to manipulate minors into agreeing to give up some privacy.³⁴ Parents, guardians, caregivers and advocates for youth have taken up the mantle.³⁵ In addition, researchers across a range of disciplines have identified methods and approaches to embedding and respecting societal values through the design, deployment, configuration, and regulation of technical systems.³⁶ In particular, researchers developed methods and tools to identify and define such values and account for potential harms, including physical and mental health concerns arising from design choices, and those efforts are relevant to children's wellbeing.³⁷ Businesses and associations, including those in the technology sector, have taken some steps to assess and address these problems.³⁸ For example, as the UK's age-appropriate design laws took effect, TikTok turned off nighttime notifications for children.³⁹ Other companies offer age-verification tools, parental controls,⁴⁰ and/or guidance for parents and guardians seeking to protect minors online.⁴¹ YouTube offers a separate application for children under 13, which allows parents to limit minors' screen time and disable some search capabilities.⁴² Industry can, however, do more to protect American children and teens online. Reports and recommendations focused on youth social media and online platforms often include recommendations for the tech sector.⁴³ The Surgeon General's Advisory included requests for more access to tech companies' data for health research and urged these companies to develop “platforms, products, and tools that foster safe and healthy online environments for youth, keeping in mind the needs of girls, racial, ethnic, and sexual and gender minorities.” ⁴⁴

³³ See, e.g., (European Union) Digital Services Act, Regulation (EU) 2022/2065 of the European Parliament and of the Council on a Single Market for Digital Services and amending Directive 2000/31/EC (Digital Services Act), Oct. 19, 2022), (including prohibitions on targeted adverts to children), https://commission.europa.eu/strategy-and-policy/priorities-2019-2024/europe-fit-digital-age/digital-services-act-ensuring-safe-and-accountable-online-environment_en; (UK) Information Commissioner's Office, Age Appropriate Design: A Code of Practice for Online Services, https://ico.org.uk/for-organisations/uk-gdpr-guidance-and-resources/childrens-information/childrens-code-guidance-and-resources/age-appropriate-design-a-code-of-practice-for-online-services/executive-summary.

³⁴ See, (UK) Information Commissioner's Office, Age Appropriate Design: A Code of Practice for Online Services, Code Standards, # 13, Nudge Techniques (“Do not use nudge techniques to lead or encourage children to provide unnecessary personal data or weaken or turn off their privacy protections”), https://ico.org.uk/for-organisations/uk-gdpr-guidance-and-resources/childrens-information/childrens-code-guidance-and-resources/age-appropriate-design-a-code-of-practice-for-online-services/code-standards.

³⁵ See, e.g., The Student Data Privacy Project, https://www.studentdataprivacyproject.com/

³⁶ See, e.g., Batya Friedman, Peter H. Kahn, and Alan Borning. 2008. Value Sensitive Design and Information Systems. In The Handbook of Information and Computer Ethics, Kenneth Einar Himma and Herman T. Tavani (eds.). John Wiley & Sons, Inc., Hoboken, NJ, USA, 69-101. DOI: https://doi.org/10.1002/9780470281819.ch4; Lara Houston, Steven J Jackson, Daniela K Rosner, Syed Ishtiaque Ahmed, Meg Young, and Laewoo Kang. 2016. Values in Repair. In Proceedings of the 2016 CHI Conference on Human Factors in Computing Systems—CHI '16, ACM Press, New York, New York, USA, 1403-1414. DOI: https://doi.org/10.1145/2858036.2858470

³⁷ See, e.g., Jina Huh-Yoo, Afsaneh Razi, Diep N. Nguyen, Sampada Regmi, and Pamela J. Wisniewski. 2023. “Help Me:” Examining Youth's Private Pleas for Support and the Responses Received from Peers via Instagram Direct Messages. In Proceedings of the 2023 CHI Conference on Human Factors in Computing Systems (CHI '23), Association for Computing Machinery, New York, NY, USA, 1-14. DOI: https://doi.org/10.1145/3544548.3581233; Marie Louise Juul Søndergaard, Marianela Ciolfi Felice, and Madeline Balaam. 2021. Designing Menstrual Technologies with Adolescents. In Proceedings of the 2021 CHI Conference on Human Factors in Computing Systems, ACM, New York, NY, USA, 1-14. DOI: https://doi.org/10.1145/3411764.3445471

³⁸ See, e.g., Microsoft, New Microsoft Research Illustrates the Online Risks and Value of Safety Tools to Keep Kids Safer in the Digital Environment, Microsoft On the Issues (Feb. 2, 2023), https://blogs.microsoft.com/on-the-issues/2023/02/06/safer-internet-day-global-online-safety-survey-2023; Instagram, Continuing to Make Instagram Safer for the Youngest Members of Our Community (Updated May 19, 2023), https://about.instagram.com/blog/announcements/continuing-to-make-instagram-safer-for-the-youngest-members-of-our-community; Snapchat, Family Center—Parental Control For Teens, Snapchat Safety, https://values.snap.com/safety/family-center (last visited Aug. 10, 2023) (noting it lets parents see who's on their child's friends list and who they kids are talking to, but not what they are saying); Twitch, Guide for Parents & Educators, https://safety.twitch.tv/s/article/Guide-Parents-Educators?language=en_US (last visited Aug. 10, 2023) (offering no parental controls, but, instead, guidance); Minecraft, Understanding Minecraft Social Features for Child Safety Online, Minecraft Help, https://help.minecraft.net/hc/en-us/articles/360058605852-Understanding-Minecraft-Social-Features-for-Child-Safety-Online (last visited Aug. 10, 2023) (noting that some versions of the game automatically censors swear words).

³⁹ E.g., Alex Hern, Social Media Giants Increase Global Child Safety After UK Regulations Introduced, The Guardian (Sept. 5, 2021), https://www.theguardian.com/media/2021/sep/05/social-media-giants-increase-global-child-safety-after-uk-regulations-introduced.

⁴⁰ See, e.g., Roblox, Experience Guidelines, Documentation—Roblox Creator Hub, https://create.roblox.com/docs/production/promotion/experience-guidelines (last visited Aug. 10, 2023).

⁴¹ See., e.g., Discord, Tips for Parents on Helping Your Teen Stay Safe on Discord, https://discord.com/safety/360044153831-helping-your-teen-stay-safe-on-discord (last visited Aug. 10, 2023); and Answering Parents' and Educators' Top Questions, Question 7—How C can I monitor what my teen is doing in Discord, https://discord.com/safety/360044149591-answering-parents-and-educators-top-questions#title-7 (last visited Aug. 10, 2023).

⁴² YouTube, YouTube Kids—Parent Resources: Tips and Tools for Your Family https://www.youtube.com/intl/ALL_us/kids/parent-resources (last visited Aug. 10, 2023).

⁴³ See also, Neil Richards and Oliver Khairallah, The Privacy Advisor: Digital Child Protection is Not Censorship, International Association of Privacy Professionals (June 15, 2023), https://iapp.org/news/a/digital-child-protection-is-not-censorship.

⁴⁴ Advisory at 15 (noting what policy makers can do about access to data) and 16 (listing what tech companies can do).

II. Objectives of This Notice

This Notice offers an opportunity for all interested parties to provide vital input and recommendations for consideration in the Task Force's work. NTIA seeks public input and feedback from a wide array of stakeholders, including parents, guardians and caregivers; educators and administrators; scientists and technologists; youth advocates; regulators and law enforcement; civil advocates and those in the advertising and business communities, including influencers and those involved with social media and online platforms; experts on relevant medical, legal, and other matters pertinent to the Task Force's mandate; and other interested parties. This input will inform the Task Force's recommendations and future work.

III. Instructions for Commenters

NTIA welcomes input on any matter that commenters believe is important to the Kids Online Health and Safety Task Force's efforts to review how use of, and exposure to, social media and other online platforms impact the health and well-being (including safety and privacy) of youth. Further, NTIA seeks feedback on current industry practices, and ways that the private sector, parents and guardians, the U.S. government, and any other party might improve the current status quo.

Commenters are invited to comment on the full range of issues presented by this RFC and are encouraged to address any or all of the following questions, or to provide additional information relevant to the Task Force. As noted above, much work has been done in specific areas identified below. This Request for Comment seeks to supplement that work, rather than repeat it, and to draw out the works or ideas that might be useful for discussion.

This request particularly welcomes comment providing or advancing thinking as to: (1) identification of the health, safety and privacy risks and benefits for minors from the use of online platforms and services; (2) information on the status of industry efforts and technology, (3) practical solutions to the specific identified issues, and (4) guidance to parents, guardians, and caregivers that is based upon rigorous evaluation and has been shown to be effective in specific, articulated ways.

The term “social media and other online platforms” could encompass many services and technologies. These include, among others, platforms set up as social media, gaming platforms and interactive games (even if decentralized), online platforms or websites that host postings of video and other content, and even search engines could be viewed as advertising platforms. However, the relevant items for discussion are how the various types of social media and other online platforms are tied to minors' safety, health, and privacy. Similarly, commenters are asked to differentiate, where appropriate, the categories to be specific about the types of social media and other online platforms and the specific types of harm they are describing as they discuss various aspects of this topic, including which minors that they are referencing.

The questions below cover issues that could affect youth of all ages, from toddlers to adolescents. This Request for Comment is meant to be all-encompassing, and the terms “minors” and “youths” are used in this document to describe people under 18 years of age. However, it is helpful to note with some specificity if particular harms or solutions, for example, are more relevant to specific demographic or age groups or youths with accessibility requirements benefit in particular (for example, blind youth, low-income youth, or youth affiliated by gender, sexuality, race, or religion).

Commenters are not required to respond to all questions. When responding to one or more of the questions below, please note in the text of your response the number of the question to which you are responding. Commenters are welcome to provide specific actionable proposals, rationales, and relevant facts. Commenters should include a page number on each page of their submissions. Please note that for this comment, because of the volumes of material already available in this area, NTIA is requesting concise comments that are at most fifteen (15) single-spaced pages. Commenters are welcome to provide citations to other work detailing particular areas of concern, studies, or solutions.

Please do not include in your comments information of a confidential nature, such as sensitive personal information or proprietary information. All comments received are a part of the public record and will generally be posted to Regulations.gov without change. All personal identifying information (e.g., name, address) voluntarily submitted by the commenter may be publicly accessible. Information obtained as a result of this notice may be used by the federal government for program planning on a non-attribution basis.

Identifying Health, Safety, and Privacy Risks and Potential Benefits

1. What are the current and emerging risks of harm to minors associated with social media and other online platforms?

a. What harms or risks of harm do social media and other online platforms facilitate with respect to, or impose upon, minors?

b. What are the specific design characteristics that most likely lead to behavior modifications leading to harms or risks?

c. What information concerning platform safety is provided to parents, care givers, and children by providers? Where is that information found? Where could it be located that would provide the best avenue to reach parents, care givers, and children?

d. For each harm or risk identified, please note whether imposition of such harm or risk is currently subject to civil or criminal legal sanction, and, if so, whether these existing legal frameworks adequately deter and/or penalize such imposition.

e. Are these harms evenly distributed? Or do they accrue disproportionately to certain demographic or age groups or youths with accessibility requirements (for example, based on gender, sexuality, age, race, or religion)?

f. Is the likelihood of these harms enhanced, facilitated, incentivized, created, or alleviated by technical design characteristics, business arrangements, or other contingent factors?

g. Conversely, are the factors that facilitate harms and risks in this area inherent in social media and other online platforms' offerings?

h. Do specific applications of artificial intelligence and/or other emerging technologies exacerbate or help alleviate certain harms or risks of harm in this area? If so, which and how?

2. Are there particular market conditions or incentives built into the market structure that enhance or deter benefits and/or harms that should be addressed and/or encouraged?

3. What are the current and emerging health and other benefits—or potential benefits—to minors associated with social media and other online platforms (including to physical, cognitive, mental, and socio-emotional well-being)? ⁴⁵

⁴⁵ As the Instructions note, this Request for Comment seeks to supplement work that has already been done in this area, rather than repeat it, and to draw out the works or ideas that might be useful for discussion. Including references to existing work is helpful.

a. Are these benefits generally available to most minors? Do minors in specific demographic or age groups or youths with accessibility requirements benefit in particular (for example, blind youth, low-income youth, or youth affiliated by gender, sexuality, race, or religion)?

b. Is there a particularly sensitive developmental period during which minors are more likely to obtain certain benefits?

4. Do particular technical design characteristics, business arrangements, or other contingent factors for some online platforms allow for or enhance the benefits referenced in Question 3?

a. Are those characteristics or factors inherent in social media and other online platforms' offerings?

b. Conversely, are there particular characteristics or factors that impede access to the beneficial aspects of social media and other online platforms? Are there barriers to making design elements available across multiple platforms?

5. Are there ways that young people have been or could be involved in making improvements to the health and safety of online platforms including social media that you think should be encouraged?

a. What are best practices in youth involvement in making improvements to the design and use of online platforms including social media? What roles did youth play? What roles did adults play? What has been the impact of these efforts?

b. What suggestions do you have for youth involvement in making improvements to online platforms including social media? Please be as specific as possible.

The Status of Current Practices

6. What practices and technologies do social media and other online platform providers employ today that exert a significant positive or negative effect on minors' health, safety, and privacy?

a. What practices and technologies do specific social media and other online platform providers employ today for assessing, preventing, and mitigating harms? What specific practices for being especially effective or ineffective?

b. Do the practices referenced in Queston [5a] impose unintended consequences? If so, what are they, and how can they be mitigated?

c. Have the practices of social media and other online platforms evolved over time to enhance or undercut minors' health and safety, including their privacy, in ways that should be taken into account for future efforts? If so, how? For example, what factors have been significant in shaping any such evolution that are likely to have similar bearing on the future of industry practices?

d. What are the relative roles played by shifts in norms, business and economic circumstances, legal mandates, scientific and social scientific consensus, and/or other relevant factors? Which of these factors shape practices the most and how?

7. What is the impact of dark patterns or design on minors' health and safety, including their privacy (for example, being addictive, extended online use, making wrong decisions, or taking incorrect actions)?

8. Do platform providers' practices or technologies disproportionately benefit or harm certain specific demographic or age groups or youths with accessibility requirements benefit in particular (for example, blind youth, low-income youth, or youth affiliated by gender, sexuality, race, or religion)? How should that be factored into any best practices and/or other recommendations that this Task Force might explore?

9. Do the practices currently employed by social media and other online platforms of relevance to this inquiry differ materially between organizations and entities or are they similar? If they are different what is the source of the disparities? If they mirror one another, what is the source of the similarities? For example, do differences and similarities stem principally from various business models, legal frameworks, commonly used technologies, key decision-makers, or other factors?

10. Among the practices currently employed by social media and other online platforms, which ones best maximize benefits to minors' health, safety, and/or privacy while minimizing the risk or imposition of harm? How do they do so?

a. Could these practices be adopted, in whole or in part, by other platforms?

b. What modifications, if any, would be required before they could be adopted by other platforms?

c. What are the most significant barriers to adoption and implementation of such practices by other platforms, and what are the most significant incentives for other platforms to adopt these practices?

d. How do these practices work in concert with other practices to protect and advance minors' online health, safety, and/or privacy?

11. Are there potential best practices (for example, practices related to design, testing, or configuration) or policies that are not currently employed by social media and other online platforms that should be considered?

12. How can such policies or best practices be best tailored in the future to different ages and stages of a child's emotional and cognitive development?

Identifying Technical Barriers to, and Enablers of, Kids' Online Health, Safety, and Privacy

13. Are there technical design choices employed by specific social media platforms and other online platforms or supported by research that should be adopted by other social media and other online platforms to advance minors' health, safety, and/or privacy online?

a. If so, what are the best ways to promote or ensure adoption of such practices?

b. Are new entrants able to offer innovation in this area or are there barriers (for example, relating to interoperability demands or the need for scale) that hamper such innovation?

14. Are there technical tools or supports that could be used by platforms to improve minors' health, safety, and/or privacy online, whether or not they are in use today?

a. What technical options or tools could be used to advance minors' health, safety, and/or privacy online? If available, why have they not previously been offered or facilitated by social media and/or other online platform providers? For example, are there factors other than health and safety at issue, or are there concerns about the effect on access to information?

b. What steps, if any, must be taken to facilitate platform providers' expanded use of technical solutions to improve minors' online health, safety, and/or privacy?

15. Are there technical options that could assist parents, guardians, caregivers, and minors by reducing potential for harm and/or increasing potential for beneficial aspects of social media and other online platforms?

Identifying Proposed Guidance and/or Policies

16. What guidance, if any, should the United States government issue to advance minors' health, safety, and/or privacy online?

a. What guidance, if any, might assist parents, guardians, caregivers and others in protecting the health, safety, and privacy of minors who use online platforms, including possible tools, their usage and potential drawbacks?

b. What type of guidance, if any, might be offered to social media or other online platforms either generally or to specific categories of such?

c. What are the benefits or downsides of the U.S. government offering such guidance, and which agencies or offices within the government are best positioned to do so?

d. How best can we ensure that such guidance reflects the evolving consensus of experts across relevant fields, including the mental health and medical community, technical experts, child development experts, parents and caregiver groups, and other stakeholders dedicated to advancing the interests of minors, and so on?

e. How best can the U.S. government encourage compliance with any guidance issued to advance minors' health, safety, and/or privacy online?

17. What policy actions could be taken, whether by the U.S. Congress, federal agencies, enforcement authorities, or other actors, to advance minors' online health, safety, and/or privacy? What specific regulatory areas of focus would advance protections?

18. How best can the U.S. government establish long-term partnerships with social media and other online platform providers to ensure that evolving needs with respect to minors' online health, safety, and/or privacy are addressed as quickly as possible?

Identifying Unique Needs of Specific Communities

19. With respect to any of the questions posed above, are there ways in which the response would be different for specific demographic or age groups or youths with accessibility requirements (for example, blind youth, low-income youth, or youth affiliated by gender, sexuality, race, or religion)? If so, how?

Reliable Sources of Concrete Information

20. What are the best sources of scientifically sound evidence that should be consulted in any review of this topic, including those about benefits, risks, harms, and best practices with respect to social media and other online offerings?

a. In particular, what are the best sources for information regarding the relationship between platform providers' practices and minors' health, safety, and/or privacy?

b. Would it be helpful to have a particular trusted source for relevant information in this area? For example, would it be helpful if resources were provided by a medical association or a special government office?

c. What are the most effective ways for platforms to gather and provide useful information through transparency reports or audits related to online harms to the health, safety, and/or privacy of youth?

21. What scientifically sound evidence regarding the matters raised in this Request for Comment is lacking? What guidance that is not currently available would an expert expect or want for research?

a. What are areas we have not included here that are important for developing a research agenda regarding online harms and health benefits to minors?

22. Should platforms provide more data to researchers and, if so, what would that kind of data sharing look like, what kind of data would be most useful, how would it account for the privacy of users, and what are the best models for sharing data, while also safeguarding users and their privacy?

Additional Material

NTIA welcomes any additional input that stakeholders believe will prove useful to our efforts.

Dated: September 26, 2023.
Stephanie Weiner,
Chief Counsel, National Telecommunications and Information Administration.

[FR Doc. 2023-21606 Filed 9-29-23; 8:45 am]

BILLING CODE 3510-60-P